DEPARTMENT OF HEALTH AND HUMAN SERVICES

Administration for Community Living

Agency Information Collection Activities; Submission for OMB Review; Public Comment Request; of the No Wrong Door (NWD) System Management Tool OMB Control 0985-0062

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the information collection requirements of the No Wrong Door (NWD) System Management Tool OMB Control 0985-0062.

DATES: Submit written comments on the collection of information by May 27, 2022.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Kristie Kulinski, (202) 795-7379 or kristie.kulinski@acl.hhs.gov. Administration for Community Living.

SUPPLEMENTARY INFORMATION: In compliance with 44 U.S.C. 3507, ACL has submitted the following proposed collection of information to OMB for review and clearance.

The Administration for Community Living (ACL) is requesting approval to collect data for the No Wrong Door (NWD) System Management Tool OMB Control 0985-0062.

ACL, the Centers for Medicare and Medicaid Services (CMS), and the Veterans Health Administration (VHA) have partnered to support states' efforts in developing coordinated systems of access, or No Wrong Door (NWD) Systems, to make it easier for people to learn about and access long-term services and supports (LTSS). When seeking services and supports, individuals and caregivers often face multiple, fragmented processes that are complex and confusing. States' access systems have been built over time as programs and funding streams have been added, creating duplicative eligibility and intake processes that are difficult for individuals and their caregivers to use.

To address these issues, the NWD System model supports state efforts to streamline access to LTSS options for all populations and provides the infrastructure to promote the collaboration of local service organizations, making service delivery more efficient and person-centered. Examples of coordinated efforts include processes where individuals are assessed once via a common or standardized data collection method that captures a core set of individual level data relevant for determining the range of necessary LTSS.

The Federal vision for the NWD System gives states flexibility in determining how best to organize, structure and operate the various functions of their NWD System. States continue to integrate, in some cases restructure, and over time strengthen their existing programs in order to realize the joint ACL/CMS/VHA vision for a fully coordinated and integrated system of access. These efforts are supported by a variety of initiatives, including the VHA's Veteran Directed Care (VDC) program, an evidence-based self-directed program where person-centered counselors from aging and disability network agencies within a state's NWD System provide facilitated assessment and care planning, arrange fiscal management services, and provide ongoing counseling and support to Veterans, their families, and caregivers.

The NWD System Management Tool (NWD MT) provides a platform for data collection necessary to evaluate the four primary functions of a NWD System: State Governance and Administration, Public Outreach and Coordination with Key Referral Sources, Person Centered Counseling, and Streamlined Access to Public LTSS Programs. In addition, this tool will include data collection for the VDC program to collect qualitative and quantitative data elements necessary to evaluate the impact of the VDC program. The VDC Tool will track key performance measures and identify best practices and technical assistance needs.

The NWD MT and the VDC Tool will enable ACL and its partners to collect and analyze data elements necessary to assess the progress of the NWD System model, track performance measures, and identify gaps and best practices.

These tools have been designed in close collaboration with states and are intended to simplify grant reporting requirements to reduce burden on local and state entities and will provide a consistent, streamlined and coordinated statewide approach to help states govern their NWD System and manage their programs efficiently.

Comments in Response to the 60-Day Federal Register Notice

The associated 60-day notice Federal Register Vol. 87, No. 8 was published on Wednesday, January 12, 2022. Three public comments were received in response to the 60-day notice. ACL's responses to these comments are included below.

Data collection form | Comment | ACL response
NWD Management Tool | There is no funding provided to incentivize the time and effort needed to collect and report data in the NWD System Management Tool on an ongoing basis | The NWD System Management Tool will only be required for states and territories with active discretionary grants that provide funding for grant activities, including the collection and reporting of data in the Management Tool. Accordingly, resources will be made available to grantees for data collection and reporting via their grant budgets. ACL has no expectation that all states and territories will complete the Management Tool.
NWD Management Tool | Collecting and reporting data in the NWD System Management Tool would be time consuming and place undue burden on local sites | As stated above, only states and territories receiving discretionary grant funding will be required to complete the NWD System Management Tool. Resources will be provided as part of any funding opportunity requiring completion of the Management Tool. The questions in the NWD System Management Tool closely mirror those collected under prior discretionary grant reporting requirements (e.g., ADRC COVID-19 CARES Act grant, NWD Business Case grant).
NWD Management Tool | ACL's estimates of burden are inaccurate for the proposed collection of information. Our state estimates four hours annually for state completion and 248 hours for local completion of the NWD Management Tool | ACL has updated the burden estimate to reflect additional time at both the state and local level. The burden estimate is also updated to reflect the anticipated number of states and territories expected to complete the Management Tool annually (reduced from all 56 states and territories to 15, which is the maximum number of states and territories expected to be funded under discretionary grant opportunities over the next three years).
NWD Management Tool | The NWD Management Tool asks for program data collection that is already collected by other funders | ACL completed a crosswalk of the NWD System Management Tool with data elements collected for other programs and funding streams, including Older Americans Act (OAA) Title III, Center for Independent Living (CIL) Program, State Health Insurance Assistance Program (SHIP), and Medicare Improvements for Patients and Providers Act (MIPPA) funding. NWD Systems serve all populations and all payers. While there is not a direct overlap with other data collection efforts, ACL does recognize that some data elements collected for other programs may contribute to metrics in the NWD System Management Tool (e.g., count of individuals 60+ served, number of outreach activities). ACL will provide accompanying guidance to grantees on where they may find Management Tool data elements collected for other programs.
NWD Management Tool | Terms used in the NWD Management Tool may have various interpretations depending on the respondent. This may lead to data discrepancies when comparing across states and organizations. The clarity of the information to be collected would be enhanced with clearer definitions. NWD remains an amorphous term that is implemented in many different forms across the country. The OAA defines Aging and Disability Resource Centers (ADRCs) in the statute; however, the ACL vision of a state NWD system is an evolution of the ADRCs that expands beyond the statutory definition and associated operation requirements | The NWD System Management Tool will be accompanied by a user manual, which will include a glossary of terms and definitions. Additionally, any funding opportunity requiring reporting in the Management Tool will define ADRC and NWD so that it is clear to applicants. NWD is an initiative of the U.S. Department of Health and Services (HHS), including ACL and the Centers for Medicare and Medicaid Services (CMS), as well as the Department of Veterans Affairs (VA). ACL's support of NWD is consistent with HHS's vision.
NWD Management Tool | The quality could be enhanced with narrative reporting (qualitative opportunities) to provide a better 360 view of the work of the NWD system. Mixing quantitative and qualitative data can provide a more holistic vision of the complexity of the work of the NWD system as well as the complexity of the clientele served | While there are challenges in aggregating qualitative data across grantees, ACL welcomes, but does not require, narrative reporting as part of the NWD System Management Tool. As described above, reporting in the Management Tool would be part of a discretionary funding opportunity, and as such, grantees would also have the opportunity to share a more holistic view of their NWD Systems and best practices through regular monitoring and technical assistance calls with ACL project officers.
NWD Management Tool | Ensure that the reporting system is functional so that end users can submit data without frustration | ACL has piloted the NWD System Management Tool web-based platform with three states to test user functionality at the federal, state, and local level. ACL will continue to refine the platform to ensure a seamless user experience when inputting and reviewing data.
NWD Management Tool | Regarding State Level Question 10 ( “How frequently does the state conduct a review to monitor and assess the performance of its NWD System? ”), a statewide review or monitoring has been conducted on the ADRCs. A NWD review or monitoring has not been conducted, but all of the programs have quality assurance processes and procedures and they, as well, are monitored. Monitoring the NWD System at this time would be arduous and burdensome to all partners | ACL agrees that it is not the responsibility of any one state agency to monitor the entire NWD System. A state or territory's governing body or governance structure is responsible for monitoring the access system. To address this concern in the NWD System Management Tool, and to align with the monitoring expectations of the state lead agency, ACL is modifying State Level Question 10 as follows: “Does your state conduct a review to monitor performance of ADRCs in your NWD System? ”
NWD Management Tool | Regarding State Level Question 11 ( “Does the state have a statewide IT System for NWD? ”), ADRCs have a statewide data reporting system and it is those entities that anchor the NWD System—because of this—this question becomes one of interpretation | ACL agrees that the data collected from this question will not be robust and has decided to remove this question from the NWD System Management Tool.
NWD Management Tool | Regarding State Level Question 21 ( “How many statewide toll-free numbers does the state have to increase access to the NWD System? ”), individual programs have 1-800 numbers to support work—depending how you interpret the organization types above would determine how this would be answered. Interpretation leads to data that lacks meaning and utility for ACL | The state lead agency completing the NWD System Management Tool should identify those toll-free numbers that meet the criteria of being statewide. Toll-free numbers administered by local partners would not be reported.
VDC Tool | We recognize that the Veterans Directed Care (VDC) Program reporting tool is specifically targeted to the entities defined as Hubs, Sole Proprietors, and providers in the VDC system. However, we do want to stress that many state NWD systems do not perform, monitor and/or track any information for VDC programs and therefore cannot provide the oversight, training, and coordination that will likely be required to implement this data collection requirement. We also note that the VDC system entities included in these requirements have substantial overlap with those local entities that will be required to submit data under the NWD data reporting system. We are concerned that the VDC reporting requirement is duplicative and will place further administrative burden on these entities specifically | As noted above, the NWD System Management Tool would only be required by entities receiving discretionary grant funding with resources provided to support data collection and entry. Data collected and reported in the VDC Tool is only recommended for providers in the VDC program.

Estimated Program Burden

ACL estimates the burden of this collection of information as follows:

Fifty-six lead NWD System state and territorial agencies will respond to the NWD MT bi-annually and it will take approximately half an hour to collect the data and an additional half hour to input the data into a web-based system. Additionally, an estimated 900 local agencies will take approximately two hours to collect and submit the data to their lead NWD System state agency. There may be several lead NWD System state and territorial agencies who will be submitting on behalf of their local agencies. Therefore, the approximate burden for the local level agencies may be thirty minutes less than anticipated. If all state and local agencies respond bi-annually, the national burden estimate for the NWD MT would be a total of 3,712 hours annually. This burden estimate is calculated based upon a sample of ADRC/NWD grantees. Each state entity submitting data will receive local-level data from designated NWD System entities.

The estimated response burden includes time to review the instructions, gather existing information, and complete and review the data entries in a web-based system. An estimated 275 VDC program entities will respond to the VDC Tool on a monthly-basis, all of which are also NWD local-level entities, for an annual burden of 1,650 hours.

This burden estimate is calculated based upon information provided by current VDC program providers testing an abbreviated version of the VDC Tool. The NWD MT and the VDC Tool have been developed to increase ease and uniformity of reporting and improve the ability of ACL to manage and analyze data.

Respondent/data collection activity | Number of respondents | Responses per respondent | Hours per response | Annual burden hours
NWD Management Tool data collection and entry—State Level | 56 | 2 | 1.0 | 112
NWD Management Tool data collection and entry—Local Level | 900 | 2 | 2.0 | 3,600
Veteran Directed Care Tool | 275 | 12 | 0.5 | 1,650
Total: | 1,231 |  |  | 5,362

Dated: April 21, 2022.
Alison Barkoff,
Acting Administrator and Assistant Secretary for Aging.

[FR Doc. 2022-08977 Filed 4-26-22; 8:45 am]

BILLING CODE 4154-01-P